DEPARTMENT OF THE INTERIOR

Bureau of Land Management

LLNVC02000.L51010000.ER0000.LVRWF1705160 MO#4500109955; N-94477; 13-08807]

Notice of Realty Action: Classification and Segregation for Lease/Conveyance for Recreation and Public Purposes for a School in Washoe County, NV

AGENCY: Bureau of Land Management, Interior.

ACTION: Notice of realty action.

SUMMARY: In accordance with Section 7 of the Taylor Grazing Act and Executive Order 6910, as amended, the Bureau of Land Management (BLM), Carson City District, Nevada, has examined and found suitable for classification for lease/conveyance approximately 80 acres of public land in Washoe County, Nevada, under the provisions of the Recreation and Public Purposes (R&PP) Act of June 14, 1926, as amended. The Washoe County School District proposes to use the land for a middle school located in Sun Valley, Nevada.

DATES: Interested parties may submit written comments regarding the proposed classification or lease/conveyance on or before November 27, 2017.

ADDRESSES: Send written comments to Bryant Smith, Field Manager, BLM Sierra Front Field Office, 5665 Morgan Mill Road, Carson City, NV 89701.

FOR FURTHER INFORMATION CONTACT: John Grasso, Realty Specialist, at the address in the ADDRESSES section or by telephone at 775-885-6110 or email at jgrasso@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Washoe County School District filed an R&PP application to use public land to authorize and construct a middle school in order to provide relief to overcrowding at Yvonne Shaw Middle School, located in Spring Valley. The land is described as:

Mount Diablo Meridian, Nevada

T. 20 N., R. 20 E.

Sec. 5, S½SW¼.

The area described contains 80 acres more or less in Washoe County.

The land is not required for any Federal purpose. The proposed lease/conveyance is consistent with the BLM Carson City Field Office Consolidated Resource Management Plan dated May 2001, and is in the public interest. NEPA compliance documentation is being prepared under #DOI-BLM-NV-C020-2017-0016-EA.

The lease/conveyance, if issued, would be subject to the provisions of the R&PP Act and applicable regulations of the Secretary of the Interior, including, but not limited to, 43 CFR parts 2740-2743 and 2912, and would be subject to the following terms, conditions, and reservations:

1. The reservation to the United States of a right-of-way thereon for ditches and canals constructed by the authority of the United States, Act of August 30, 1890 (43 U.S.C. 945);

2. All minerals shall be reserved to the United States, together with the right to prospect for, mine and remove such deposits from the same under applicable law and such regulations as the Secretary of the Interior may prescribe; and subject to valid existing rights;

3. An appropriate indemnification clause protecting the United States from claims arising out of the lessees/patentee's use, occupancy, or occupations on the leased/patented lands; and

4. Additional terms and conditions that the authorized officer deems appropriate.

Upon publication of this Notice in the Federal Register, the land will be segregated from all forms of appropriation under the public land laws, including the United States general mining laws, except for conveyance under the R&PP Act, leasing under the mineral leasing laws and disposals under the mineral material disposal laws.

Interested persons may submit comments involving the suitability of the land for development of a school. Comments on the classification are restricted to whether the land is physically suited for the proposal, whether the use will maximize the future use or uses of the land, whether the use is consistent with local planning and zoning, or whether the use is consistent with state and Federal programs.

Interested persons may submit comments, including notification of any encumbrances or other claims relating to the land, regarding the specific use proposed in the application and plan of development, whether the BLM followed appropriate administrative procedures in reaching a decision to lease/convey under the R&PP Act, or any other factors not directly related to the suitability of the land for the middle school.

Documents related to this action are on file at the BLM Sierra Front Field Office at the address in the ADDRESSES section and may be reviewed by the public at their request.

Before including your address, phone number, email address, or other personal identifying information in your comment, you should be aware that your entire comment—including your personal identifying information—may be made publicly available at any time. While you can ask us in your comment to withhold your personal identifying information from public review, the BLM cannot guarantee that we will be able to do so. Only written comments submitted by postal service or overnight mail to the Field Manager, BLM Sierra Front Field Office will be considered properly filed.

Any adverse comments will be reviewed by the BLM Nevada State Director who may sustain, vacate, or modify this realty action. In the absence of any adverse comments, this realty action will become effective December 12, 2017. The land would not be offered for conveyance until after the classification becomes effective.

Authority: 43 CFR 2741.

Bryant Smith,
Field Manager, Sierra Front Field Office.

[FR Doc. 2017-22217 Filed 10-12-17; 8:45 am]

BILLING CODE 4310-HC-P